DEPARTMENT OF TRANSPORTATION

Federal Aviation Administration

Notice of Request To Release Airport Property at Merrill Field Airport, Anchorage, AK

AGENCY: Federal Aviation Administration, Department of Transportation.

ACTION: Notice of intent to release airport property.

SUMMARY: The Federal Aviation Administration (FAA) is considering a proposal to authorize the release of approximately 3.37 acres of Merrill Field Airport (MRI) property located in Anchorage, Alaska. Said property will be replaced with 4.6 acres of land located adjacent to the east and north boundaries of the existing Airport.

DATES: Comments must be received on or before July 16, 2012.

ADDRESSES: Send comments on this document to Gabriel Mahns, Compliance Officer, Federal Aviation Administration, Alaska Region Airports Division, 222 W. 7th Avenue, #14, Anchorage, AK 99513-7587. In addition, one copy of any comments submitted to the FAA must be mailed or delivered to: Michelle Colby, Real Estate Services Manager, DOWL HKM, 4041 B Street, Anchorage, AK 99503.

FOR FURTHER INFORMATION CONTACT: Mr. Gabriel Mahns, Compliance Officer, Federal Aviation Administration, Alaska Region Airports Division, 222 W. 7th Avenue, #14, Anchorage, AK 99513-7587, telephone 907-271-3665, email gabriel.mahns@faa.gov or Michelle Colby, Real Estate Services Manager, DOWL HKM, 4041 B Street, Anchorage, AK 99503, telephone 907-562-2000, email mcolby@dowlhkm.com.

SUPPLEMENTARY INFORMATION:

Background

On May 15, 2009, the State of Alaska, Department of Transportation and Public Facilities (DOT&PF) presented an official purchase offer to the Municipality of Anchorage (MOA) for the referenced 3.37 acres of MRI and other Municipal lands along with a proposal to provide for a “Functional Replacement” of MRI lands in accordance with Title 23, Part 710.509 of the Code of Federal Regulations and Section 6.13 of the State of Alaska Right of Way Manual. This purchase offer was predicated on DOT&PF's need for additional right of way to construct improvements to the Glenn Highway adjacent to MRI in conjunction with the State of Alaska project known as the Glenn Highway, Gambell Street to Airport Heights Reconstruction Project (IM-OA1-6(35)/58800).

Per the terms of the proposed exchange, the MOA MRI will dispose of approximately 3.37 acres of land and will receive title to approximately 4.6 acres in exchange as well as monetary compensation in the amount of $4,500,000. On June 2, 2009 and June 19, 2009, authorized representatives of the MOA and the DOT&PF executed a Land Exchange Agreement that set forth the terms of the purchase and exchange. On June 22, 2010, the Anchorage Assembly passed Assembly Ordinance No. 2010-49 which authorized the disposal of MOA lands and the acceptance of the offered additional monetary compensation amount of four million five hundred thousand dollars ($4,500,000).

A portion of the lands to be released and then disposed from MRI, containing approximately 8,986 square feet (SF) or 0.206 acres, was purchased for inclusion into MRI utilizing FAA Airport Improvement (AIP) Funds. Said lands, described as a portion of Lot One of the East Fifth Avenue Subdivision, according to Plat 68-20, Anchorage Recording District (ARD), Third Judicial District, State of Alaska, were acquired in December of 1992 under AIP No. 3-02-0015-16. In 1997, the lands within the area to be disposed and the remainder of Lot One were replatted with additional lands into Tract C-1 of Merrill Field Replat Addition No. 4, according to Plat 97-26, ARD.

In accordance with Title 49 of the United States Code (U.S.C.), Section 47107(h)(2), this notice is required to be published in the Federal Register 30 days before modifying the land-use assurance that requires the property described immediately above to be used for an aeronautical purpose. Other portions of the lands to be disposed from MRI, containing a combined area of 37,950 SF or 0.871 acres, were originally conveyed from the United States of America to the City of Anchorage in 1958 under the authority of Section 16 of the 1946 Federal Airport Act (60 Stat. 179; 49 U.S.C. 1115). Said lands were a portion of the lands within Tracts 22 and 24 of the Fourth Addition to the Townsite of Anchorage, as shown on the Plat of U.S. Survey No. 1456, accepted June 13, 1923, on file in the Bureau of Land Management, Department of the Interior.

Pursuant to section 16 of the Act, the conveyance of said lands was subject to a provision that the lands conveyed would revert to the U.S. in the event that they are not developed or cease be used for airport purposes. Per the terms of the Land Exchange Agreement, these lands will cease to be used for airport purposes once conveyed; however, since the function of said land is being replaced via the exchange, the FAA has determined that the reversionary provision of the Section 16 conveyance will be satisfied by their concurrence to the exchange. In regards to the proposed change in use of said lands, the FAA has determined that the proposed change should also be published for comment via this notice before modification of the use provision.

The remaining 2.293 acres of MRI lands to be disposed are not subject to specific FAA public notice requirements; however, since these lands have historically been depicted on the MRI FAA-approved Airport Layout Plan, the airport is being compensated for the fair market value of the airport lands and infrastructure that are being purchased by the DOT&PF and that the lands are being replaced in “like kind”. Upon the transfer of the replacement 4.6 acres, the aforementioned lands will no longer be needed for aeronautical use. There are no impacts to the airport by allowing the disposal of the property. A categorical exclusion for this project was prepared by HDR Alaska on behalf of the DOT&PF, issued August 19, 2005, and approved by the Federal Highway Administration, Department of Transportation, on August 22, 2005.

The following are legal descriptions of the property proposed to be release at the Merrill Field Airport: That portion of Lot One of the East Fifth Avenue Subdivision, according to Plat 68-20, Anchorage Recording District, Third Judicial District, State of Alaska, containing approximately 8,986 SF or 0.206 acres, more or less, which is now known as a portion of Tract C-1 of Merrill Field Replat Addition No. 4, according to Plat 97-26, filed in the Anchorage Recording District, Third Judicial District, State of Alaska, and also designated as a portion of Parcel No. 19 which lies adjacent to the right of way lines of Project No. IM-0A1-6(35)/58800; and Portions of Tracts 22 and 24 of the Fourth Addition to the Townsite of Anchorage, as shown on the Plat of U.S. Survey No. 1456, accepted June 13, 1923, on file in the Bureau of Land Management, Department of the Interior, containing combined area of 37,950 SF or 0.871 acres, more or less, which are now known as portions of Tract 5, Merrill Field Replat, according to Plat 85-23, filed in the Anchorage Recording District, Third Judicial District, State of Alaska, and also designated as portions of Parcel No. 22 which lies adjacent to the right of way lines of Project No. IM-0A1-6(35)/58800.

Issued in Anchorage, Alaska, on June 6, 2012.
Byron K. Huffman,
Division Manager, FAA, Alaskan Region.

[FR Doc. 2012-14157 Filed 6-11-12; 8:45 am]

BILLING CODE 4910-13-P